DEPARTMENT OF TRANSPORTATION

Federal Aviation Administration

14 CFR Part 39

[Docket No. FAA-2014-0426; Directorate Identifier 2013-NM-231-AD; Amendment 39-18186; AD 2015-12-11]

RIN 2120-AA64

Airworthiness Directives; The Boeing Company Airplanes

Correction

In rule document 2015-14703 beginning on page 34827 in the issue of Thursday, June 18, 2015 make the following correction:

1. On page 34827, in the second column, in the SUMMARY section, in the third line, “The Boeing Company Model and 777 airplanes” should read “The Boeing Company Model 767 and 777 airplanes.”

[FR Doc. C1-2015-14703 Filed 6-24-15; 8:45 am]

BILLING CODE 1505-01-D